DEPARTMENT OF TRANSPORTATION

Federal Aviation Administration

14 CFR Part 71

[Docket FAA 2005-21523; Airspace Docket No. 05-AWP-07]

Establishment of Class E3 Airspace, Riverside March Field, CA

AGENCY: Federal Aviation Administration (FAA), DOT.

ACTION: Final rule.

SUMMARY: This action establishes a Class E3 airspace area at Riverside March Field, CA.

EFFECTIVE DATE: 0901 UTC December 22, 2005.

FOR FURTHER INFORMATION CONTACT: Debra Trindle, Western Terminal Service Area, Airspace Specialist, AWP-520, Federal Aviation Administration, 15000 Aviation Boulevard, Lawndale, California 90261, telephone (310) 725-6613.

SUPPLEMENTARY INFORMATION:

History

On August 2, 2005, the FAA proposed to establish Class E3 airspace at Riverside March Field, CA. Class E3 airspace areas are designated as arrival extensions to a Class C surface area. Class E arrival extensions are primarily designated to provide additional controlled airspace ancillary to a surface area to protect instrument operations for the primary airport, without imposing additional communications burdens on airspace users. This action is necessary at Riverside March Field to provide controlled airspace for Category E aircraft conducting circling maneuvers in conjunction with published Standard Instrument Approach Procedures. Generally, Category E aircraft are very large and/or high performance. These aircraft require additional airspace when conducting circling maneuvers. This action will establish the Class E3 airspace at Riverside March Field.

Interested parties were invited to participate in this rule making proceeding by submitting written comments on the proposal to the FAA. No comments were received. Class E3 airspace is published in Paragraph 6003 of FAA Order 7400.9N dated September 1, 2005, and effective September 16, 2005, which is incorporated by reference in 14 CFR 71.1. The Class E Surface Area airspace designation listed in this document would be published subsequently in this Order.

The Rule

This amendment to 14 CFR part 71 establishes Class E3 airspace at Riverside March Field, CA.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air)

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS

1. The authority citation for 14 CFR part 71 continues to read as follows:

Authority: 49 U.S.C. 106(g), 40103, 40113, 40120, E. O. 10854, 24 FR 9565, 3 CFR, 1959-1963 Comp., p. 389.

§ 71.1 [Amended]

2. The incorporation by reference in 14 CFR 71.1 of the Federal Aviation Administration Order 7400.9N, Airspace Designations and Reporting Points, dated September 1, 2005, and effective September 16, 2005, is amended as follows:

* * * * *

Paragraph 6003 Class E airspace designated as an extension to Class C surface areas.

* * * * *

AWP CA E3 Riverside March Field, CA [NEW]

Riverside March Field, CA

(Lat. 33°52′50″ N, long. 117°15′34″ W)

That airspace extending upward from the surface between the 5 mile radius and 7 mile radius of Riverside March Field and between a line 2 miles east of the 150° bearing from the airport clockwise to the 216° bearing from the airport.

* * * * *

Dated: Issued in Los Angeles, California, on September 1, 2005.
Leonard A. Mobley,
Acting Area Director, Terminal Operations, Western Service Area.

[FR Doc. 05-20466 Filed 10-12-05; 8:45 am]

BILLING CODE 4910-13-M